DEPARTMENT OF VETERANS AFFAIRS

[OMB Control No. 2900-0619]

Proposed Information Collection (Inquiry Routing & Information System (IRIS)) Activity: Comment Request

AGENCY: Office of Information and Technology, Department of Veterans Affairs.

ACTION: Notice.

SUMMARY: The Office of Information and Technology (OIT), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments on information needed to route IRIS inquiries generated on the department's Contact Us, Ask A Question Web site to appropriate locations throughout VA for response and to gather sufficient information to be able to respond timely without repeated requests from VA for more information.

DATES: Written comments and recommendations on the proposed collection of information should be received on or before December 5, 2016.

ADDRESSES: Submit written comments on the collection of information through Federal Docket Management System (FDMS) at www.Regulations.gov or to Nancy Tucker, Department of Veterans Affairs, Office of Information & Technology, VA Enterprise Applications, (005F4), 550 Foothill Blvd., Salt Lake City, Utah 84113 or email to nancy.tucker@va.gov. Please refer to “OMB Control No. 2900-0619” in any correspondence. During the comment period, comments may be viewed online through the FDMS.

FOR FURTHER INFORMATION CONTACT: Nancy Tucker at 801-580-7884.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, OIT invites comments on: (1) Whether the proposed collection of information is necessary for the proper performance of IRIS functions, including whether the information will have practical utility; (2) the accuracy of OIT's estimate of the burden of the proposed collection of information; (3) ways to enhance the quality, utility, and clarity of the information to be collected; and (4) ways to minimize the burden of the collection of information on respondents, including through the use of automated collection techniques or the use of other forms of information technology.

Title: Inquiry Routing & Information System (IRIS).

OMB Control Number: 2900-0619.

Type of Review: Extension of a currently approved collection.

Abstract: The IRIS Ask A Question form on the VA Web site's Contact Us link is used by Web site visitors to submit inquiries to locations and business lines across VA to respond to any questions, complaints, suggestions or other issues.

Affected Public: Individuals and Households (Any individual who utilizes Contact Us via the department Web site).

Estimated Annual Burden: 66,000 hours.

Estimated Average Burden per Respondent: 10 minutes.

Frequency of Response: Daily.

Estimated Number of Respondent: 33,000 per month.

By direction of the Secretary.
Cynthia Harvey-Pryor,
Program Specialist, Office of Privacy and Records Management, Department of Veterans Affairs.

[FR Doc. 2016-23964 Filed 10-3-16; 8:45 am]

BILLING CODE 8320-01-P